ARCTIC RESEARCH COMMISSION

Notice of 108th Commission Meeting

A notice by the U.S. Arctic Research Commission on 10/10/2017.

Notice is hereby given that the U.S. Arctic Research Commission will hold its 108th meeting in Anchorage, AK, on October 10, 2017. The business sessions, open to the public, will convene at 8:00 a.m. at the Hotel Captain Cook, 939 W 5th Ave., Anchorage, AK 99501.

The Agenda items include:

(1) Call to order and approval of the agenda

(2) Approval of the minutes from the 106th meeting

(3) Commissioners and staff reports

(4) Discussion and presentations concerning Arctic research activities

The meeting will focus on reports and updates relating to programs and research projects affecting Alaska and the greater Arctic.

The Arctic Research and Policy Act of 1984 (Title I Pub. L. 98-373) and the Presidential Executive Order on Arctic Research (Executive Order 12501) dated January 28, 1985, established the United States Arctic Research Commission.

If you plan to attend this meeting, please notify us via the contact information below. Any person planning to attend who requires special accessibility features and/or auxiliary aids, such as sign language interpreters, must inform the Commission of those needs in advance of the meeting.

Contact person for further information: Kathy Farrow, Communications Specialist, U.S. Arctic Research Commission, 703-525-0111 or TDD 703-306-0090.

Dated: September 1, 2017.
Kathy Farrow,
Communications Specialist.

[FR Doc. 2017-19798 Filed 9-15-17; 8:45 am]

BILLING CODE 7555-01-P